DEPARTMENT OF THE TREASURY

Internal Revenue Service

Open Meeting of the Small Business/Self Employed—Payroll Committee of the Taxpayer Advocacy Panel

AGENCY: Internal Revenue Service (IRS), Treasury.

ACTION: Notice.

SUMMARY: An open meeting of the Small Business/Self Employed—Payroll Committee of the Taxpayer Advocacy Panel will be conducted. The TAP will be discussing issues pertaining to increasing compliance and lessoning the burden for Small Business/Self Employed individuals. Recommendations for IRS systemic changes will be developed.

DATES: The meeting will be held Thursday, July 15, 2004 and Friday, July 16, 2004.

FOR FURTHER INFORMATION CONTACT: Mary O'Brien at 1-888-912-1227, or 206 220-6096.

SUPPLEMENTARY INFORMATION: Notice is hereby given pursuant to Section 10(a)(2) of the Federal Advisory Committee Act, 5 U.S.C. App. (1988) that an open meeting of the Small Business/Self Employed—Payroll Committee of the Taxpayer Advocacy Panel will be held Thursday, July 15, 2004 from 1 p.m. CDT to 4:30 p.m. CDT and Friday, July 16, 2004 from 8 a.m. CDT to 4 p.m. CDT at 600 North State Street, Chicago, IL 60610. If you would like to have the TAP consider a written statement, please call 1-888-912-1227 or 206-220-6096, or write to Mary O'Brien, TAP Office, 915 Second Avenue MS W-406, Seattle, WA 98174. Due to limited space, notification of intent to participate in the meeting must be made with Mary O'Brien. Ms. O'Brien can be reached at 1-888-912-1227 or 206-220-6096.

The agenda will include the following: Various IRS issues.

Dated: June 17, 2004.
Tersheia Carter,
Acting Director, Taxpayer Advocacy Panel.

[FR Doc. 04-14258 Filed 6-22-04; 8:45 am]

BILLING CODE 4830-01-P